DEPARTMENT OF AGRICULTURE

Forest Service

Eastern Arizona Counties Resource Advisory Committee

AGENCY: Forest Service, USDA.

ACTION: Notice of meeting.

SUMMARY: The Eastern Arizona Counties Resource Advisory Committee will meet in Globe, Arizona. The purpose of the meeting is to review possible projects for funding and approve operating guidelines including the next meeting date.

DATES: The meeting will be held December 6, 2002, at 1 p.m.

ADDRESSES: The meeting will be held at the Gila County Courthouse in the Board of Supervisors hearing room, 1400 East Ash, Globe, Arizona 85501. Send written comments to Robert Dyson, Eastern Arizona Counties Resource Advisory Committee, c/o Forest Service, USDA, PO Box 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff and Committee members. However, persons who wish to bring Public Law 106-393 related matters to the attention of the Committee may file written statements with the Committee staff before or after the meeting. Opportunity for public input will be provided.

Dated: November 18, 2002.
John C. Bedell,
Forest Supervisor, Apache-Sitgreaves National Forests.

[FR Doc. 02-29728 Filed 11-21-02; 8:45 am]

BILLING CODE 3410-11-M